DEPARTMENT OF AGRICULTURE

Rural Utilities Service

Announcement of Funding Availability and Solicitation of Applications

AGENCY: Rural Utilities Service, USDA.

ACTION: Notice of Funding Availability and Solicitation of Applications.

SUMMARY: The United States Department of Agriculture (USDA) Rural Development administers rural utilities programs through the Rural Utilities Service. USDA Rural Development announces its Distance Learning and Telemedicine (DLT) grant, combination loan-grant and loan program application windows for Fiscal Year (FY) 2007, and a new initiative within the combination loan-grant program for the conversion of medical recordkeeping systems to emerging electronic formats.

In addition to announcing the application windows, the Agency announces the available funding, and the minimum and maximum amounts for DLT grants, combination loan-grants and loans applicable for the fiscal year.

DATES: You may submit completed applications for grants on paper or electronically according to the following deadlines:

• Paper copies must be postmarked and mailed, shipped, or sent overnight no later than June 11, 2007 to be eligible for FY 2007 grant funding. Late or incomplete applications will not be eligible for FY 2007 grant funding.

• Electronic copies must be received by June 11, 2007 to be eligible for FY 2007 grant funding. Late or incomplete applications will not be eligible for FY 2007 grant funding.

ADDRESSES: You may obtain copies of the FY 2007 application guides and materials for the DLT grant program at the DLT Web site: http://www.usda.gov/rus/telecom/dlt/dlt.htm. For your reference, you may also request last year's FY 2006 application guide and materials by contacting the DLT Program at (202) 720-0413.

Submit completed paper applications for grants to the United States Department of Agriculture, Rural Development, Telecommunications Program, 1400 Independence Ave., SW., Room 2845, STOP 1550, Washington, DC 20250-1550. Applications should be marked “Attention: Director, Advanced Services Division.”

Submit electronic grant applications at http://www.grants.gov (Grants.gov), following the instructions you find on that Web site.

FOR FURTHER INFORMATION CONTACT: Director, Advanced Services Division, Telecommunications Program, USDA Rural Development, United States Department of Agriculture, telephone: (202) 720-0413, fax: (202) 720-1051.

SUPPLEMENTARY INFORMATION:

Overview

Federal Agency: Rural Utilities Service (RUS).

Funding Opportunity Title: Distance Learning and Telemedicine Grants, Combination Loan-grants, and Loans.

Announcement Type: Initial announcement.

Catalog of Federal Domestic Assistance (CFDA) Number: 10.855.

Dates: You may submit completed applications for grants on paper or electronically according to the following deadlines:

• Paper copies must be postmarked and mailed, shipped, or sent overnight no later than June 11, 2007 to be eligible for FY 2007 grant funding. Late or incomplete applications are not eligible for FY 2007 grant funding.

• Electronic copies must be received by June 11, 2007 to be eligible for FY 2007 grant funding. Late or incomplete applications are not eligible for FY 2007 grant funding.

Items in Supplementary Information

I. Funding Opportunity: Brief introduction to the DLT program.

II. Minimum and Maximum Application Amounts: Projected Available Funding.

III. Eligibility Information: Who is eligible, what kinds of projects are eligible, what criteria determine basic eligibility.

IV. Application and Submission Information: Where to get application materials, what constitutes a completed application, how and where to submit applications, deadlines, items that are eligible.

V. Application Review Information: Considerations and preferences, scoring criteria, review standards, selection information.

VI. Award Administration Information: Award notice information, award recipient reporting requirements.

VII. Agency Contacts: Web, phone, fax, e-mail, contact name.

I. Funding Opportunity

Distance learning and telemedicine loans and grants are specifically designed to provide access to education, training and health care resources for people in rural America. The Distance Learning and Telemedicine (DLT) Program provides financial assistance to encourage and improve telemedicine services and distance learning services in rural areas through the use of telecommunications, computer networks, and related advanced technologies by students, teachers, medical professionals, and rural residents.

Grants, which are awarded through a competitive process, may be used to fund telecommunications-enabled information, audio and video equipment and related advanced technologies which extend educational and medical applications into rural locations. Grants are made for projects where the benefit is primarily delivered to end users that are not at the same location as the source of the education or health care service.

As in years past, the FY 2007 grant application guide has been changed to reflect recent changes in technology and application trends. Details of changes from the FY 2006 application guide are highlighted throughout this Notice and described in full in the FY 2007 application guide. All applicants must carefully review and exactly follow the FY 2007 application guide and sample materials when compiling a DLT grant application.

Applications for loans and combination loan-grants are not competitively scored. In addition to the items listed for grants, loans and combination loan-grants may be used to fund projects where the benefit is primarily at the same location as the source of the service. Loans and combination loan-grants may also fund construction of necessary transmission facilities on a technology-neutral basis. Examples of such facilities include satellite uplinks, microwave towers and associated structures, T-1 lines, DS-3 lines, and other similar facilities. Loan funds may also be used to obtain mobile units and for some building construction. Please see 7 CFR part 1703, subparts D, E, F and G for specifics.

II. Maximum and Minimum Amount of Applications; Projected Available Funding

Under 7 CFR 1703.124, the Administrator has determined the maximum amount of an application for a grant in FY 2007 is $500,000 and the minimum amount of a grant is $50,000. The anticipated amount available to fund grant awards in FY 2007 is $15 million.

The USDA Rural Development will make awards and execute documents appropriate to the project prior to any advance of funds to successful applicants.

Combination loan-grants will be offered at a loan-to-grant ratio of 9:1, i.e. $9 in loan to $1 in grant. Under 7 CFR 1703.133, the maximum amount of an application for a combination loan-grant in FY 2007 is $20 million and the minimum amount of a combination loan-grant is $50,000. For this program, the Administrator has determined that $45,000,000 in loans, paired with $5,000,000 in grants, for a total of $50,000,000, will be available.

For projects that are for electronic medical records systems, combination loan-grants will be offered at a special rate. The loan-to-grant ratio for the special ratio combination loan-grant program will be 4:1, i.e. $4 in loan to $1 in grant. Under 7 CFR 1703.133, the Administrator has determined that maximum amount of a special ratio combination loan-grant application is $1 million, and the minimum amount is $50,000. For this special ratio program, $20,000,000 in loans will be paired with $5,000,000 in grants, for a total available of $25,000,000.

The Administrator has determined that $62,900,000 will be available for DLT loans. Under 7 CFR 1703.143, the maximum amount of an application for a loan in FY 2007 is $20 million and the minimum amount of a loan is $50,000.

DLT grants, combination loan-grants and loans cannot be renewed. Award documents specify the term of each award. Applications to extend existing projects are welcomed (grant applications must be submitted during the application window) and will be evaluated as new applications.

III. Eligibility Information

A. Who is eligible for grants, combination loan-grants, and loans? (See 7 CFR 1703.103.)

1. Only entities legally organized as one of the following are eligible for DLT financial assistance:

a. An incorporated organization or partnership,

b. An Indian tribe or tribal organization, as defined in 25 U.S.C. 450b (b) and (c),

c. A state or local unit of government,

d. A consortium, as defined in 7 CFR 1703.102, or

e. Other legal entity, including a private corporation organized on a for-profit or not-for-profit basis.

2. Individuals are not eligible for DLT program financial assistance directly.

3. Electric and telecommunications borrowers under the Rural Electrification Act of 1936 (7 U.S.C. 950aaa et seq.) are not eligible for grants or combination loan-grants, but are eligible for loans.

B. What are the basic eligibility requirements for a project?

1. Required matching contributions for grants: See 7 CFR 1703.125(g) and the FY 2007 application guide for information on required matching contributions.

a. Grant applicants must demonstrate matching contributions, in cash or in kind (new, non-depreciated items), of at least fifteen (15) percent of the total amount of financial assistance requested. Matching contributions must be used for eligible purposes of DLT grant assistance (see 7 CFR 1703.121, paragraphs IV.G.1.b of this Notice and the FY 2007 application guide).

b. Greater amounts of eligible matching contributions may increase an applicant's score (see 7 CFR 1703.126(b)(4), paragraph V.B.2.d of this notice, and the FY 2007 application guide).

c. Applications that do not provide evidence of the required fifteen percent match which helps determine eligibility will be declared ineligible and returned. See paragraphs IV.G.1.c and V.B.2.d of this Notice, and the FY 2007 application guide for specific information on documentation of matching contributions.

d. Applications that do not document all matching contributions are subject to budgetary adjustment by USDA Rural Development, which may culminate in rejection of an application as ineligible due to insufficient match.

3. The DLT loan, combination loan-grant and grant programs are designed to flow the benefits of distance learning and telemedicine to residents of rural America (see 7 CFR 1703.103(a)(2)). Therefore, in order to be eligible, applicants must:

a. Operate a rural community facility; or

b. Deliver distance learning or telemedicine services to entities that operate a rural community facility or to residents of rural areas, at rates calculated to ensure that the benefit of the financial assistance is passed through to such entities or to residents of rural areas.

4. Rurality.

a. All projects proposed for DLT grant assistance must meet a minimum rurality threshold, to ensure that benefits from the projects flow to rural residents. The minimum eligibility score is 20 points. Please see Section IV of this notice, 7 CFR 1703.126(a)(2), and the FY 2007 application guide for an explanation of the rurality scoring and eligibility criterion.

b. Each application must apply the following criteria to each of its end-user sites, and hubs that are also proposed as end-user sites, in order to determine a rurality score. The rurality score is the average of all end-user sites' rurality scores.

Criterion | Character | Population | DLT points
Exceptionally Rural Area | Area not within an Urbanized Area or Urban Cluster | ≤ 5000 | 45
Rural Area | Area in an Urban Cluster | > 5000 and ≤ 10,000 | 30
Mid-Rural Area | Area in an Urban Cluster | >10,000 and ≤ 20,000 | 15
Urban Area | Area in an Urbanized Area or Urban Cluster | > 20,000 | 0

c. The rurality score is one of the competitive scoring criteria applied to grant applications.

4. Projects located in areas covered by the Coastal Barrier Resources Act (16 U.S.C. 3501 et seq.) are not eligible for financial assistance from the DLT Program. Please see 7 CFR 1703.123(a)(11), 7 CFR 1703.132(a)(5), and 7 CFR 1703.142(b)(3).

C. See Section IV of this Notice and the FY 2007 application guide for a discussion of the items that make up a complete application. For requirements of completed applications you may also refer to 7 CFR 1703.125 for grant applications, 7 CFR 1703.134 for combination loan-grant applications, and 7 CFR 1703.144 for loan applications. The FY 2007 application guide provides specific, detailed instructions for each item that constitutes a complete application. The Agency strongly emphasizes the importance of including every required item (as explained in the FY 2007 application guide) and strongly encourages applicants to follow the instructions exactly, using the examples and illustrations in the FY 2007 application guide. Applications which do not include all items that determine project eligibility and applicant eligibility by the application deadline will be returned as ineligible. Applications that do not include all items necessary for scoring will be scored as is. Please see the FY 2007 application guide for a full discussion of each required item and for samples and illustrations.

IV. Application and Submission Information

A. Where To Get Application Information

FY 2007 application guides, copies of necessary forms and samples, and the DLT Program regulation are available from these sources:

1. The Internet: http://www.usda.gov/rus/telecom/dlt/dlt.htm.

2. The DLT Program for paper copies of these materials: (202) 720-0413.

B. What's new for FY 2007?

1. For DLT Grants, USDA Rural Development clarifies end-user identification for portable and residential end-user projects such as ambulance and home health care applications. A simplified method of calculating rurality and National School Lunch Program (NSLP) scores for these applications will eliminate the need for identification and scoring of every community an applicant serves. Past applications from these applicants have contained hundreds of pages of community identification and scoring supporting documents. This was burdensome for applicants and increased the possibility of end-user site inconsistency, a cause of ineligibility for some in the FY 2006 DLT grant program.

2. For DLT Combination loan grants, USDA Rural Development adds a special ratio combination loan-to-grant funding program to address the growing lag in implementation of electronic medical records systems in rural hospitals and healthcare networks. The new ratio is available only to projects whose entire cost is directly attributable to the conversion to or extension of an electronic medical records system.

3. The standard rate DLT Combination loan-grant program adopts a new funding ratio of $9 loan for each $1 grant, to simplify post-grant administration.

4. For DLT rurality scoring, a new measurement tool is used to improve accuracy and consistency of scoring. Rurality scoring is now referenced to the U.S. Census current Urbanized Area and Urban Cluster designations. This will prevent scoring anomalies caused by jurisdictional peculiarities of different states.

C. What constitutes a completed application?

1. For DLT Grants:

a. Detailed information on each item in the table in paragraph IV.C.1.f. of this Notice can be found in the sections of the DLT Program regulation listed in the table, and the DLT grant application guide. Applicants are strongly encouraged to read and apply both the regulation and the application guide.

(1) When the table refers to a narrative, it means a written statement, description or other written material prepared by the applicant, for which no form exists. USDA Rural Development recognizes that each project is unique and requests narratives to allow applicants to explain their request for financial assistance.

(2) When documentation is requested, it means letters, certifications, legal documents or other third-party documentation that provide evidence that the applicant meets the listed requirement. For example, to confirm Enterprise Zone (EZ) designations, applicants use various types of documents, such as letters from appropriate government bodies and copies of appropriate USDA Web pages. Leveraging documentation sometimes includes letters of commitment from other funding sources. In-kind matches must be items essential to the project and documentation from the donor must demonstrate the relationship of each item to the project's function. Evidence of legal existence is sometimes proven by submitting articles of incorporation. None of the foregoing examples is intended to limit the types of documentation that may be submitted to fulfill a requirement. DLT Program regulations and the application guide provide specific guidance on each of the items in the table.

b. The DLT application guide and ancillary materials provide all necessary forms and sample worksheets.

c. While the table in paragraph IV.C.1.f of this Notice includes all items of a completed application, USDA Rural Development may ask for additional or clarifying information for applications which, as submitted by the deadline, appear to clearly demonstrate that they meet eligibility requirements.

d. Submit the required application items in the order provided in the FY 2007 application guide. The FY 2007 application guide specifies the format and order of all required items. Applications that are not assembled and tabbed in the order specified prevent timely determination of eligibility. Given the high volume of program interest, incorrectly assembled applications will be returned as ineligible.

e. DUNS Number. As required by the OMB, all applicants for grants must supply a Dun and Bradstreet Data Universal Numbering System (DUNS) number when applying. The Standard Form 424 (SF-424) contains a field for you to use when supplying your DUNS number. Obtaining a DUNS number costs nothing and requires a short telephone call to Dun and Bradstreet. Please see http://www.grants.gov/RequestaDUNS for more information on how to obtain a DUNS number or how to verify your organization's number.

f. Compliance with other Federal statutes. The applicant must provide evidence of compliance with other federal statutes and regulations, including, but not limited to the following:

(i) 7 CFR part 15, subpart A—Nondiscrimination in Federally Assisted Programs of the Department of Agriculture—Effectuation of Title VI of the Civil Rights Act of 1964.

(ii) 7 CFR part 3015—Uniform Federal Assistance Regulations.

(iii) 7 CFR part 3017—Governmentwide Debarment and Suspension (Non-procurement).

(iv) 7 CFR part 3018—New Restrictions on Lobbying.

(v) 7 CFR part 3021—Governmentwide Requirements for Drug-Free Workplace

g. Table of Required Elements of a Completed Grant Application.

Application item | REQUIRED items: Grants (7 CFR 1703.125 and CFR 1703.126) | REQUIRED items: Comment
SF-424 (Application for Federal Assistance form) | Yes | Completely filled out.
Executive Summary | Yes | Narrative.
Objective Scoring Worksheet | Yes | RUS worksheet.
Rural Calculation Table | Yes | RUS worksheet.
National School Lunch Program Determination | Yes | RUS worksheet; must include source documentation.
EZ/EC or Champion Communities designation | Yes | Documentation.
Documented Need for Services/Benefits Derived from Services | Yes | Narrative & documentation, if necessary.
Innovativeness of the Project | Yes | Narrative & documentation.
Budget | Yes | Table or spreadsheet; Recommend using the RUS format.
Leveraging Evidence and Funding Commitments from All Sources | Yes | RUS worksheet and source documentation.
Financial Information/Sustainability | Yes | Narrative.
System/Project Cost Effectiveness | Yes | Narrative & documentation.
Telecommunications System Plan | Yes | Narrative & documentation; maps or diagrams, if appropriate.
Proposed Scope of Work | Yes | Narrative or other appropriate format.
Statement of Experience | Yes | Narrative 3-page, single-spaced limit.
Consultation with the USDA State Director, Rural Development | Yes | Documentation.
Application conforms with State Strategic Plan per USDA State Director, Rural Development, (if plan exists) | Yes | Documentation.
Certifications
Equal Opportunity and Nondiscrimination | Yes | Recommend using the RUS sample form.
Architectural Barriers | Yes | Recommend using the RUS sample form.
Flood Hazard Area Precautions | Yes | Recommend using the RUS sample form.
Uniform Relocation Assistance and Real Property Acquisition Policies Act of 1970 | Yes | Recommend using the RUS sample form.
Drug-Free Workplace | Yes | Recommend using the RUS sample form.
Debarment, Suspension, and Other Responsibility Matters—Primary Covered Transactions | Yes | Recommend using the RUS sample form.
Lobbying for Contracts, Grants, Loans, and Cooperative Agreements | Yes | Recommend using the RUS sample form.
Non Duplication of Services | Yes | Recommend using the RUS sample form.
Environmental Impact/Historic Preservation Certification | Yes | Recommend using the RUS sample form.
Federal Obligations on Delinquent Debt | Yes | Recommend using the RUS sample form.
Evidence of Legal Authority to Contract with the Government (documentation) | Yes | Recommend using the RUS sample form.
Evidence of Legal Existence (documentation) | Yes | Recommend using the RUS sample form.
Supplemental Information (if any) | Optional | Narrative, documentation or other appropriate format.

2. For combination loan-grant and loan applications:

a. Detailed information on each item in the table in paragraph IV.C.2.f. of this Notice can be found in the sections of the DLT Program regulation listed in the table, and the DLT application guide. Applicants are strongly encouraged to read and apply both the regulation and the application guide.

(1) When the table refers to a narrative, it means a written statement, description or other written material prepared by the applicant, for which no form exists. USDA Rural Development recognizes that each project is unique and requests narratives to allow applicants to explain their request for financial assistance.

(2) When documentation is requested, it means letters, certifications, legal documents or other third party documentation that provide evidence that the applicant meets the listed requirement. For example, evidence of legal existence is sometimes proven by applicants who submit articles of incorporation. This example is not intended to limit the types of documentation that may be submitted to fulfill a requirement. DLT program regulations and the application guide provide specific guidance on each of the items in the table.

b. The DLT application guide and ancillary materials provide all necessary forms and sample worksheets.

c. While the table in paragraph IV.C.2.f. of this Notice includes all items of a completed application for each program, USDA Rural Development may ask for additional or clarifying information.

d. Submit the required application items in the listed order.

e. DUNS Number. As required by the OMB, all applicants for combination loan-grants must supply a Dun and Bradstreet Data Universal Numbering System (DUNS) number when applying. The Standard Form 424 (SF-424) contains a field for you to use when supplying your DUNS number. Obtaining a DUNS number costs nothing and requires a short telephone call to Dun and Bradstreet. Please see the DLT Web site or Grants.gov for more information on how to obtain a DUNS number or how to verify your organization's number.

f. Table of required items in a combination loan-grant or loan application:

Application item | REQUIRED items: Combination loan/grants (7 CFR 1703.134) | REQUIRED items: Loans
Completed SF-424 (Application for Federal Assistance form) | Yes | Yes.
Executive Summary (narrative) | Yes | Yes.
Rural Calculation Table | Yes | Yes.
Budget (table or other appropriate format) | Yes | Yes.
Financial Information/Sustainability (narrative) | Yes | Yes.
Pro Forma Financial Data (documentation) | Yes | Yes.
Ability to execute a note with maturity greater than 1 year (documentation) | Yes | Yes.
Budget | Yes | Yes.
Revenue/expense reports and balance sheet (documentation: table or other appropriate format | Yes /1/ | Yes /1/.
Balance sheet (table or other appropriate format) for a partnership, corporation, company, other entity; or consortia of such entities (documentation). | Yes/2/ | Yes /2/.
Property list (collateral/adequate security (documentation)) | Yes | Yes.
Depreciation Schedule | Yes | Yes.
Revenue source(s) for each hub and end-user site (documentation). | Yes | Yes.
Economic analysis of rates—if applicant proposes to provide services for another entity | Yes | Yes.
Telecommunications System Plan (narrative & documentation; maps or diagrams, if appropriate | Yes | Yes.
Scope of Work (narrative or other appropriate format) | Yes | Yes.
Statement of Experience (narrative 3-page, single-spaced limit. | Yes | Yes.
Certifications:
*Equal Opportunity and Nondiscrimination | All Yes | All Yes.
*Architectural Barriers
*Flood Hazard Area Precautions
*Uniform Relocation Assistance and Real Property
Acquisitions Policies Act of 1970
*Drug Free Workplace
*Debarment, Suspension, and Other Responsibility Matters—Primary Covered Transactions
*Lobbying for Contracts, Grants, Loans, and Cooperative Agreements
*Non-Duplication of Services
*Environmental Impact/Historic Preservation Certification
*Environmental Impact/Historic Preservation Questionnaire
*Federal Obligations on Delinquent Debt
Evidence of Legal Authority to Contract with the Government (documentation) | Yes | Yes.
Evidence of Legal Existance (documentation). | Yes | Yes.
Supplemental Information (if any) (narrative, documentation or other appropriate format.) | Optional | Optional.

D. How many copies of an application are required?

1. Applications submitted on paper.

a. Submit the original application and two (2) copies to USDA Rural Development.

b. Submit one (1) additional copy to the state government single point of contact (SPOC) (if one has been designated) at the same time as you submit the application to the Agency. See http://www.whitehouse.gov/omb/grants/spoc.html for an updated listing of State government single points of contact.

2. Electronically submitted applications. USDA Rural Development cannot accept loan applications electronically at this time. Only grants and combination loan-grants may be requested electronically.

a. The additional paper copies are not necessary if you submit the application electronically through Grants.gov.

b. Submit one (1) copy to the state government single point of contact (if one has been designated) at the same time as you submit the application to the Agency. See http://www.whitehouse.gov/omb/grants/spoc.html for an updated listing of State government single points of contact.

E. How and Where To Submit an Application

Grant and combination loan-grant applications may be submitted on paper or electronically.

1. Submitting applications on paper.

a. Address paper applications to the Telecommunications Program, USDA Rural Development, United States Department of Agriculture, 1400 Independence Ave., SW., Room 2845, STOP 1550, Washington, DC 20250-1550. Applications should be marked “Attention: Director, Advanced Services Division.”

b. Paper grant applications must show proof of mailing or shipping by the deadline consisting of one of the following:

(i) A legibly dated U.S. Postal Service (USPS) postmark;

(ii) A legible mail receipt with the date of mailing stamped by the USPS; or

(iii) A dated shipping label, invoice, or receipt from a commercial carrier.

c. Due to screening procedures at the Department of Agriculture, packages arriving via regular mail through the USPS are irradiated, which can damage the contents and delay delivery to the DLT Program. USDA Rural Development encourages applicants to consider the impact of this procedure in selecting their application delivery method.

2. Electronically submitted applications.

a. Applications will not be accepted via fax or electronic mail.

b. Electronic applications for grants and combination loan-grants will be accepted if submitted through the Federal government's Grants.gov initiative at http://www.grants.gov.

c. How to use Grants.gov.

(i) Grants.gov contains full instructions on all required passwords, credentialing and software.

(ii) Central Contractor Registry. Submitting an application through Grants.gov requires that you list your organization in the Central Contractor Registry (CCR). Setting up a CCR listing takes up to five business days, so the Agency strongly recommends that you obtain your organization's DUNS number and CCR listing well in advance of the deadline specified in this notice.

(iii) Credentialing and authorization of applicants. Grants.gov will also require some credentialing and online authentication procedures. These procedures may take several business days to complete, further emphasizing the need for early action by applicants to complete the sign-up, credentialing and authorization procedures at Grants.gov before you submit an application at that Web site.

(iv) Some or all of the CCR and Grants.gov registration, credentialing and authorizations require updates. If you have previously registered at Grants.gov to submit applications electronically, please ensure that your registration, credentialing and authorizations are up to date well in advance of the grant application deadline.

d. USDA Rural Development encourages applicants who wish to apply through Grants.gov to submit their applications in advance of the deadlines.

e. If a system problem occurs or you have technical difficulties with an electronic application, please use the customer support resources available at the Grants.gov Web site.

F. Deadlines

1. Paper grant applications must be postmarked and mailed, shipped, or sent overnight no later than June 11, 2007 to be eligible for FY 2007 grant funding. Late applications, applications which do not include proof of mailing or shipping as described in paragraph IV.E.b., and incomplete applications are not eligible for FY 2007 grant funding.

2. Electronic grant applications must be received by June 11, 2007 to be eligible for FY 2007 funding. Late or incomplete applications will not be eligible for FY 2007 grant funding.

G. Intergovernmental Review. The DLT grant program is subject to Executive Order 12372, “Intergovernmental Review of Federal Programs.” As stated in paragraph IV.D.1. of this Notice, a copy of a DLT grant application must be submitted to the state single point of contact if one has been designated. Please see http://www.whitehouse.gov/omb/grants/spoc.html to determine whether your state has a single point of contact.

H. Funding Restrictions

1. Eligible purposes.

a. For grants, end-user sites may receive financial assistance; hub sites (rural or non-rural) may also receive financial assistance if they are necessary to provide DLT services to end-user sites. Please see 7 CFR 1703.101(h).

b. To fulfill the policy goals laid out for the DLT Program in 7 CFR 1703.101, the following table lists purposes for financial assistance and whether each purpose is generally considered to be eligible for the form of financial assistance. Please consult the FY 2007 application guide and the regulations (7 CFR 1703.102 for definitions, in combination with the portions of the regulation cited in the table) for detailed requirements for the items in the table. USDA Rural Development strongly recommends that applicants exclude ineligible items from the grant and match portions of grant application budgets. However, some items ineligible for funding or matching contributions may be vital to the project. USDA Rural Development encourages applicants to document those costs in the application's budget. Please see the FY 2007 application guide for a recommended budget format, and detailed budget compilation instructions.

| Grants | Combination loan-grants | Loans
Lease or purchase of eligible DLT equipment and facilities | Yes, equip. only | Yes.
Acquire instructional programming | Yes | Yes.
Technical assistance, develop instructional programming, engineering or environmental studies | Yes, up to 10% of the grant | Yes, up to 10% of the financial assistance.
Medical or education equipment or facilities necessary to the project | Yes.
Vehicles using distance learning or telemedicine technology to deliver services | No | Yes.
Teacher-student links located at the same facility | No | Yes, if part of a broader DLT network that meets other eligible program purposes.
Links between medical professionals located at the same facility | No | Yes, if part of a broader DLT network that meets other eligible program purposes
Site development or building alteration | No | Yes, if the activity meets other program purposes.
Land of building purchase | No | Yes, if the activity meets other program purposes.
Building Construction | No | Yes, if the activity meets other program purposes.
Acquiring telecommunications transmission facilities | No | Yes, if other telecommunications carriers will not install in a reasonable time period and at an economically viable cost to the project.
Salaries, wages, benefits for medical or educational personnel | No.
Salaries or administrative expenses of applicant or project | No.
Recurring project costs or operating expenses | No (equipment & facility leases are not recurring project costs) |  | Yes, for the first two years after approval (equipment & facility leases are not recurring project costs).
Equipment to be owned by the LEC or other telecommunications service provider, if the provider is the applicant | No | Yes.
Duplicative distance learning or telemedicine services | No.
Any project that for its success, depends on additional DLT financial assistance or other financial assistance that is not assured | No.
Application Preparation Costs | No.
Other project costs not in regulation | No |  | Yes, for the first two years of operation.
Cost of facilities providing distance learning broadcasting (amount) | No |  | Yes, financial assistance directly proportional to the distance learning portion of use.
Reimburse applicants of others for costs incurred prior to USDA RURAL DEVELOPMENT receipt of completed application | No.

c. Discounts. The DLT Program regulation has long stated that manufacturers' and service providers' discounts are not eligible matches. The Agency will not consider as eligible any proposed match from a vendor, manufacturer, or service provider whose products or services will be used in the DLT project as described in the application. In recent years, the Agency has noted a trend of vendors, manufacturers and other service providers offering their own products and services as in-kind matches for a project when their products or services will also be purchased with either grant or cash match funds for that project. Such activity is a discount and is therefore not an eligible match. Similarly, if a vendor, manufacturer or other service provider proposes a cash match (or any in-kind match) when their products or services will be purchased with grant or match funds, such activity is a discount and is not an eligible match. The Agency actively discourages such matching proposals and will adjust budgets as necessary to remove any such matches, which may reduce an application's score or result in the application's ineligibility due to insufficient match.

d. For special ratio combination loan-grant applications, the only eligible purpose is for the conversion to electronic medical records systems, or for the extension of an existing electronic medical records system to a new rural location.

2. Eligible Equipment & Facilities. Please see 7 CFR 1703.102 for definitions of eligible equipment, eligible facilities and telecommunications transmission facilities as used in the table above. In addition, the FY 2007 application guide supplies a wealth of information and examples of eligible and ineligible items.

3. Apportioning budget items. Many DLT applications propose to use items for a blend of specific DLT project purposes and other purposes. USDA Rural Development will now fund such items, if the applicants attribute the proportion (by percentage of use) of the costs of each item to the project's DLT purpose or to other purposes to enable consideration for a grant of the portion of the item that is for DLT usage. See the FY 2007 application guide for detailed information on how to apportion use and apportioning illustrations.

V. Application Review Information

A. Special Considerations or Preferences

1. American Samoa, Guam, Virgin Islands, and Northern Mariana Islands applications are exempt from the matching requirement up to a match amount of $200,000 (see 48 U.S.C. 1469a; 91 Stat. 1164).

2. 7 CFR 1703.112 directs that USDA Rural Development Telecommunications Borrowers receive expedited consideration of a loan application or advance under the Rural Electrification Act of 1936 (7 U.S.C. 901-950aa, et seq.) if the loan funds in question are to be used in conjunction with a DLT grant, loan, or combination loan-grant (See 7 CFR 1737 for loans and 7 CFR 1744 for advances).

B. Criteria

1. Grant application scoring criteria (total possible points: 235). See 7 CFR 1703.125 for the items that will be reviewed during scoring, and 7 CFR 1703.126 for scoring criteria.

2. Grant applications are scored competitively subject to the criteria listed below.

a. Need for services proposed in the application, and the benefits that will be derived if the application receives a grant (up to 55 points).

(i) Up to 45 of the 55 possible points under this criterion are available to all applicants. Points are awarded based on the required narrative crafted by the applicant. USDA Rural Development encourages applicants to carefully read the cited portions of the Program regulation and the FY 2007 application guide for full discussions of this criterion.

(ii) Up to 10 of the possible 55 possible points are to recognize economic need not reflected in the project's National School Lunch Program (NSLP) score, and can be earned only by applications whose overall NSLP eligibility is less than 50%. To be eligible to receive points under this, the application must include an affirmative request for consideration of the possible 10 points, and compelling documentation of reasons why the NSLP eligibility percentage does not represent the economic need of the proposed project beneficiaries.

b. Rurality of the proposed service area (up to 45 points).

c. Percentage of students eligible for the NSLP in the proposed service area (objectively demonstrates economic need of the area) (up to 35 points).

d. Leveraging resources above the required matching level (up to 35 points). Please see paragraph III.B of this Notice for a brief explanation of matching contributions.

e. Level of innovation demonstrated by the project (up to 15 points).

f. System cost-effectiveness (up to 35 points).

g. Project overlap with Empowerment Zone, Enterprise Communities or Champion Communities designations (up to 15 points).

C. Grant Review Standards

1. In addition to the scoring criteria that rank applications against each other, USDA Rural Development evaluates grant applications for possible awards on the following items, according to 7 CFR 1703.127:

a. Financial feasibility.

b. Technical considerations. If the application contains flaws that would prevent the successful implementation, operation or sustainability of a project, USDA Rural Development will not award a grant.

c. Other aspects of proposals that contain inadequacies that would undermine the ability of the project to comply with the policies of the DLT Program.

2. Applications which do not include all items that determine project eligibility and applicant eligibility by the application deadline will be returned as ineligible. Applications that do not include all items necessary for scoring will be scored as is. Please see the FY 2007 application guide for a full discussion of each required item and for samples and illustrations. The USDA Rural Development will not request missing items that affect the application's score.

3. The FY 2007 grant application guide specifies the format and order of all required items. Applications that are not assembled and tabbed in the order specified. Incorrectly assembled applications will be returned as ineligible.

4. Most DLT grant projects contain numerous project sites. USDA Rural Development requires that site information be consistent throughout an application. Sites must be referred to by the same designation throughout all parts of an application. USDA Rural Development has provided a site worksheet that requests the necessary information, and can be used as a guide by applicants. USDA Rural Development strongly recommends that applicants complete the site worksheet, listing all requested information for each site. Applications without consistent site information will be returned as ineligible.

5. DLT grant applications which have non-fixed end-user sites, such as ambulance and home health care services, are now scored using a simplified scoring method that finds the relative rurality of the applicant's service area. See the FY 2007 application guide for specific guidance on this method of scoring. When an application contains non-fixed sites, it must be scored using the non-fixed site scoring method.

D. Selection Process

1. Grants. Applications are ranked by final score, and by application purpose (education or medical). USDA Rural Development selects applications based on those rankings, subject to the availability of funds. USDA Rural Development may allocate grant awards between medical and educational purposes, but is not required to do so. In addition, USDA Rural Development has the authority to limit the number of applications selected in any one state, or for one project, during a fiscal year. See 7 CFR 1703.127.

2. Combination loan-grants and loans.

a. Combination loan-grant applications and loan applications are evaluated on the basis of technical, financial, economic and other criteria.

b. USDA Rural Development evaluates applications' financial feasibility using the following information. Please see paragraph IV.C.2. of this Notice for the items that constitute a completed combination loan-grant or loan application. Also, see 7 CFR part 1703 subpart F for combination loan-grants and 7 CFR part 1703 subpart G for loans:

(1) Applicant's financial ability to complete the project;

(2) Project feasibility;

(3) Applicant's financial information;

(4) Project sustainability;

(5) Ability to repay the loan portion of a combination loan-grant, including revenue sources;

(6) Collateral for which the applicant has perfected a security interest; and

(7) Adequate security for a loan or the loan portion of a combination loan-grant.

(c) USDA Rural Development also evaluates the following project and application characteristics:

(1) Services to be provided by the project.

(2) Project cost.

(3) Project design.

(4) Rurality of the proposed service area. Please see paragraph III.B.4. of this Notice for information on determining rurality.

(5) Other characteristics.

d. Selection process. Based on the review standards listed above and in the DLT Program regulation, USDA Rural Development will process successful combination loan-grant and loan applications on a first-in, first-out basis, dependent upon the availability of funds. Please see 7 CFR 1703.135 for combination loan-grant application processing and selection; and 7 CFR 1703.145 for loan application processing and selection.

VI. Award Administration Information

A. Award Notices

USDA Rural Development generally notifies applicants whose projects are selected for awards by faxing an award letter. USDA Rural Development follows the award letter with an agreement that contains all the terms and conditions for the grant, combination loan-grant or loan. USDA Rural Development recognizes that each funded project is unique, and therefore may attach conditions to different projects' award documents. An applicant must execute and return the agreement, accompanied by any additional items required by the agreement, within the number of days shown in the selection notice letter.

B. Administrative and National Policy Requirements

The items listed in Section IV of this notice, and the DLT Program regulation, FY 2007 application guide and accompanying materials implement the appropriate administrative and national policy requirements.

C. Reporting

1. Performance reporting. All recipients of DLT financial assistance must provide annual performance activity reports to USDA Rural Development until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

3. Record Keeping and Accounting The loan, or grant contract will contain provisions relating to record keeping and accounting requirements.

VII. Agency Contacts

A. Web site: http://www.usda.gov/rus/telecom/dlt/dlt.htm. The DLT Web site maintains up-to-date resources and contact information for DLT programs.

B. Phone: 202-720-0413.

C. Fax: 202-720-1051.

D. E-mail: dltinfo@usda.gov.

E. Main point of contact: Orren E. Cameron III, Director, Advanced Services Division, Telecommunications Program, Rural Development, United States Department of Agriculture.

Dated: March 13, 2007.
James M. Andrew,
Administrator, Rural Utilities Service.

[FR Doc. E7-6544 Filed 4-9-07; 8:45 am]

BILLING CODE 3410-15-P